DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice on the National Sea Grant College Program in the areas of program evaluation, strategic planning, education, communications and extension, science and technology programs, and other matters as described below:

DATES: The announced meeting is scheduled during two days: Tuesday, November 15, 8:30 a.m. to 5:15 p.m.; Wednesday, November 16, 8:30 a.m. to 12:30 p.m.

ADDRESSES: Consortium for Oceanographic Research and Education (CORE), 1201 New York Avenue, Northwest, 4th Floor Conference Room, Washington, DC 20005.

FOR FURTHER INFORMATION CONTACT: Dr. Francis M. Schuler, Designated Federal Official, National Sea Grant College Program, National Oceanic and Atmospheric Administration, 1315 East-West Highway, Room 11837, Silver Spring, Maryland 20910, (301) 713-2445. The Review Panel web page address is http://www.nsgo.seagrant.org/leadership/review_panel.html.

SUPPLEMENTARY INFORMATION: The Panel, which consists of a balanced representation from academia, industry, state government and citizens groups, was established in 1976 by section 209 of the Sea Grant Improvement Act (Pub. L. 94-461, 33 U.S.C. 1128). The Panel advises the Secretary of Commerce and the Director of the National Sea Grant College Program with respect to operations under the Act, and such other matters as the Secretary refers to them for review and advice. The following agenda may be obtained via internet at the web address given above in this notice in the section FOR FURTHER INFORMATION CONTACT.

Tuesday, November 15, 2005

8:45 a.m.-5:15 p.m.

8:45 a.m.—Welcoming and Opening Remarks

9 a.m.—Program Evaluation Committee Report

9:45 a.m.—Executive Committee Report

10:30 a.m.—Break

10:45 a.m.—National Sea Grant Office Director's Update

11:45 a.m.—Sea Grant Association President's Report

12:15 p.m.—Lunch

1:30 p.m.—NOAA Research Update

2:15 p.m.—Panel Subcommittee Updates

3:15 p.m.—Break

3:30 p.m.—Panel Business Practices

4 p.m.—Panel Priorities Open Discussion

5 p.m.—Nominations Committee Report

5:15 p.m.—Adjourn

Wednesday, November 16, 2005

8:45 a.m.-12:30 p.m.

8:45 a.m.—Founder's Report

10 a.m.—NOAA Legislative Update

10:30 a.m.—Break

10:45 a.m.—National Sea Grant Office Staff Updates

12:15 p.m.—Wrap-Up

12:30 p.m.—Adjourn

This meeting will be open to the public.

Dated: October 26, 2005.
Mark E. Brown,
Chief Financial Officer, Office of Oceanic and Atmospheric Research.

[FR Doc. 05-21814 Filed 11-1-05; 8:45 am]

BILLING CODE 3510-22-P